DEPARTMENT OF ENERGY

Office of Civilian Radioactive Waste Management; Site Recommendation Consideration Process—Announcement of Public Hearings on Supplemental Information

AGENCY: Office of Civilian Radioactive Waste Management, Department of Energy.

ACTION: Notice of public hearings.

SUMMARY: On November 14, 2001, the Department of Energy (the Department) announced a 30-day supplemental public comment period regarding the consideration of a possible recommendation by the Secretary of Energy of the Yucca Mountain site in Nevada for development as a repository (66 FR 57049). The Department today announces the dates and locations for public hearings during this supplemental comment period.

DATES: The comment period began on November 14, 2001, and will close on December 14, 2001. See Supplementary Information for hearing dates and times.

ADDRESSES: Written comments should be addressed to Carol Hanlon, U.S. Department of Energy, Yucca Mountain Site Characterization Office (M/S #205), P.O. Box 364629, North Las Vegas, Nevada, 89036-8629.

FOR FURTHER INFORMATION CONTACT: U.S. Department of Energy, Office of Civilian Radioactive Waste Management, Yucca Mountain Site Characterization Office, (M/S #025), P.O. Box 364629, North Las Vegas, Nevada 89036-8629, 1-800-967-3477.

SUPPLEMENTARY INFORMATION: On November 14, 2001, the Department announced a supplemental public comment period regarding the consideration of a possible recommendation by the Secretary of Energy of the Yucca Mountain site in Nevada for development as a repository. This additional opportunity for public involvement is intended to focus exclusively on issues that could not have been raised in the prior comment period that ended on October 19, 2001.

The Department today is announcing the dates and locations for nine public hearings to be held during the supplemental public comment period. These hearings will provide the public with additional opportunities to raise issues that could not have been raised during the prior comment period and to comment on information not available during the prior comment period.

The hearings are scheduled as follows:

December 5, 2001, at the Cashman Center, Rooms 103-106, 850 Las Vegas Boulevard North, Las Vegas, NV 89101, from 3 pm through 9 pm.

December 5, 2001, at the Bob Ruud Community Center, 150 North Highway #160, Pahrump, NV 89060, from 3 pm through 9 pm.

December 5, 2001, at the Battle Mountain Civic Center, 625 South Broad Street, Battle Mountain, NV 89820, from 3 pm through 9 pm.

December 8, 2001, at the Cashman Center, Rooms 203-206, 850 Las Vegas Boulevard North, Las Vegas, NV 89101, from 11 am through 8 pm.

December 8, 2001, at the Reno/Sparks Convention Center, Meeting Room B3, 4590 South Virginia Street, Reno, NV 89502, from 11 am through 8 pm.

December 8, 2001, at the Bristlecone Convention Center, 150 6th Street, Ely, NV 89301 from 11 am through 8 pm.

December 12, 2001, at the Cashman Center, Rooms 103-106, 850 Las Vegas Boulevard North, Las Vegas, NV 89101, from 5 pm through 9 pm.

December 12, 2001, at the Longstreet Inn and Casino, Highway 373, Amargosa Valley, 89020, from 5 pm through 9 pm.

December 12, 2001, at the Olson Senior Citizens Center, 240 Front Street, Caliente, NV 89008, from 5 pm through 9 pm.

Additional information on the Civilian Radioactive Waste Management program may be obtained at the Yucca Mountain web site at www.ymp.gov or by calling 1-800-967-3477.

Issued in Washington, DC on November 16, 2001.
Lake H. Barrett,
Acting Director.

[FR Doc. 01-29168 Filed 11-20-01; 8:45 am]

BILLING CODE 6450-01-P